DEPARTMENT OF COMMERCE

National Oceanic and Atmospheric Administration

RIN 0648-XG615

North Pacific Fishery Management Council; Public Meeting

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet December 3, 2018 through December 11, 2018.

DATES: The Council will begin its plenary session at 8 a.m. in the Aleutian Room on Wednesday, December 5, 2018 continuing through Tuesday, December 11, 2018. The Council's Scientific and Statistical Committee (SSC) will begin at 8 a.m. in the King Salmon/Iliamna Room on Monday, December 3, 2018 and continue through Wednesday, December 5, 2018. The Council's Advisory Panel (AP) will begin at 8 a.m.in the Dillingham/Katmai Room on Tuesday, December 4, 2018 and continue through Saturday, December 8, 2018. The Charter Halibut Management Committee will meet on Monday, December 3, 2018 from 1 p.m. to 5 p.m. (room TBD). The Cook Inlet Salmon Committee will meet on Tuesday, December 4, 2018 from 8 a.m. to 5 p.m. (room TBD). The Enforcement Committee will meet on Tuesday, December 4, 2018 from 1 p.m. to 4 p.m.

ADDRESSES: The meeting will be held at the Anchorage Hilton Hotel, 500 W 3rd Ave, Anchorage, AK 99501.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION:

Agenda

Monday, December 3, 2018 through Tuesday, December 11, 2018

Council Plenary Session: The agenda for the Council's plenary session will include the following issues. The Council may take appropriate action on any of the issues identified.

(1) Executive Director's Report (including Joint Protocol Committee Report, and update on Halibut Stakeholder Committee)

(2) NMFS Management Report (including year-end inseason management report, Final 2019 Observer Annual Deployment Plan)

(3) NOAA GC Report (including report on recusal rule (T))

(4) NOAA Enforcement Report

(5) ADF&G Report

(6) USCG Report

(7) USFWS Report

(8) IPHC Report

(9) Protected Species Report

(10) 2019 Charter halibut management measures—Final action

(11) GOA Groundfish Harvest Specifications—Final specifications, Ecosystem Status report, PT report

(12) BSAI Groundfish Harvest Specifications—Final specifications, Ecosystem Status report, PT report

(13) Bering Sea Fishery Ecosystem Plan—Adopt FEP, Ecosystem Committee report

(14) AI Pacific cod set aside adjustment—Final action

(15) Bering Sea Snow Crab PSC limits—Initial Review

(16) GOA pollock, cod seasons/allocations—Initial Review

(17) Exempted Fishing Permits for Adak pollock, A80 crab monitoring—Review

(18) Western GOA pollock vessel limitations—Discussion paper

(19) Observer coverage on vessels delivering to tenders—Update, action as necessary

(20) Trawl EM 2019 Cooperative Research Plan—Review, EMC report

(21) Central GOA Rockfish reauthorization—Discussion Paper

(22) BSAI Pacific cod allocation review—Review workplan

(23) Cook Inlet Salmon FMP amendment—Discussion Paper, CISC report

(24) Social Science Planning Team—Report, staff suggestions for tribal representative

The Advisory Panel will address Council agenda items (10) through (24).

The SSC agenda will include the following issues:

(1) Exempted Fishing Permits for Adak pollock, A80 crab monitoring—Review

(2) BSAI Pacific cod allocation review—Review workplan

(3) GOA Groundfish Harvest Specifications—Final specifications, Ecosystem Status report, PT report

(4) BSAI Groundfish Harvest Specifications—Final specifications, Ecosystem Status report, PT report

(5) Bering Sea Snow Crab PSC limits—Initial Review

(6) GOA pollock, cod seasons/allocations—Initial Review

(7) Bering Sea Fishery Ecosystem Plan—Adopt FEP, Ecosystem Committee report

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Charter Halibut Management Committee will review and recommend management measures for the charter halibut fisheries in International Pacific Halibut Commission (IPHC) areas 2C and 3A for implementation in 2019, and other business. The Enforcement Committee will review the Enforcement Committee Terms of Reference and Enforcement Precepts, and will receive a presentation of anonymous survey results from Observers regarding observer safety/harassment.

The Cook Inlet Salmon Committee agenda will include the following issues:

(1) Review and provide comments on specific, Council-identified issues

(2) Develop options for fishery management measures for specific, Council-identified management needs

(3) Provide perspectives on potential social and economic impacts of proposed fishery management measures

The Agendas are subject to change, and the latest versions will be posted at http://www.npfmc.org/

Public Comment

Public comment letters will be accepted and should be submitted either electronically via the eCommenting portal at: meetings.npfmc.org or through the mail: North Pacific Fishery Management Council, 605 W. 4th Ave., Suite 306, Anchorage, AK 99501-2252. Deadline for comments is November 30, 2018, at 12 p.m.

Special Accommodations

These meetings are physically accessible to people with disabilities. Requests for sign language interpretation or other auxiliary aids should be directed to Shannon Gleason at (907) 271-2809 at least 7 working days prior to the meeting date.

Dated: November 6, 2018.
Tracey L. Thompson,
Acting Deputy Director, Office of Sustainable Fisheries, National Marine Fisheries Service.

[FR Doc. 2018-24601 Filed 11-8-18; 8:45 am]

BILLING CODE 3510-22-P